DEPARTMENT OF ENERGY

Federal Energy Regulatory Commission

[Project No. 2413-126]

Georgia Power Company; Notice of Availability of Environmental Assessment

In accordance with the National Environmental Policy Act of 1969 and the Federal Energy Regulatory Commission (Commission) regulations, 18 CFR part 380 (Order No. 486, 52 FR 47897), the Office of Energy Projects has reviewed an application submitted by Georgia Power Company (licensee) to allow River Sand Inc., in Greene County, Georgia, the use of Wallace Dam Hydroelectric (FERC No. 2413) project lands and waters to conduct hydraulic sand mining for commercial purposes. The project is located at about river mile 173 on the Oconee River in the Altamaha River Basin in Putnam, Morgan, Oconee, Oglethorpe, Greene and Hancock counties, Georgia. The proposed sand mine would be operated by River Sand Inc. and sited in Greene County. The project occupies federal land administered by the U.S. Forest Service, but the proposed sand mine will not operate on Forest Service land.

An Environmental Assessment (EA) has been prepared as part of Commission staff's review of the proposal. This EA contains Commission staff's analysis of the probable environmental impacts of the proposed action and concludes that approval of the proposal would not constitute a major federal action significantly affecting the quality of the human environment.

The EA may be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19), issued by the President on March 13, 2020. You may also register online at http://www.ferc.gov/docs-filing/esubscription.asp to be notified via email of new filings and issuances related to this or other pending projects. For assistance, call 1-866-208-3676 or email FERCOnlineSupport@ferc.gov, for TTY, call (202) 502-8659.

For further information, contact Michael Calloway at (202) 502-8041 or by email at michael.calloway@ferc.gov.

Dated: June 30, 2021.
Kimberly D. Bose,
Secretary.

[FR Doc. 2021-14472 Filed 7-6-21; 8:45 am]

BILLING CODE 6717-01-P